DEPARTMENT OF HEALTH AND HUMAN SERVICES

Centers for Disease Control and Prevention

[30Day-19-19AUK]

Agency Forms Undergoing Paperwork Reduction Act Review

In accordance with the Paperwork Reduction Act of 1995, the Centers for Disease Control and Prevention (CDC) has submitted the information collection request titled Promoting Adolescent Health through School-Based HIV Prevention, National Center for HIV/AIDS, Viral Hepatitis, STD, and TB to the Office of Management and Budget (OMB) for review and approval. CDC previously published a “Proposed Data Collection Submitted for Public Comment and Recommendations” notice on Wednesday, June 5, 2019 to obtain comments from the public and affected agencies. CDC received 2 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Promoting Adolescent Health through School-Based HIV Prevention—New—National Center for HIV/AIDS, Viral Hepatitis, STD, and TB Prevention (NCHHSTP), Centers for Disease Control and Prevention (CDC).

Background and Brief Description

Many young people engage in sexual behaviors that place them at risk for HIV infection, other sexually transmitted diseases (STD), and pregnancy. According to the 2017 Youth Risk Behavior Survey (YRBS), 39.5% of high school students in the United States had ever had sexual intercourse and 28.7% were currently sexually active. Among currently sexually active students, 46.2% did not use a condom, and 13.8% did not use any method to prevent pregnancy the last time they had sexual intercourse. While the proportion of high school students who are sexually active has steadily declined, half of the 20 million new STDs reported each year are among young people between the ages of 15 and 24. Young people aged 13-24 account for 21% of all new HIV diagnoses in the United States, with most occurring among 20-24 year olds.

Establishing healthy behaviors during childhood and adolescence is easier and more effective than trying to change unhealthy behaviors during adulthood. One venue that offers valuable opportunities for improving adolescent health is at school. Schools have direct contact with over 50 million students for at least six hours a day over 13 key years of their social, physical, and intellectual development. In addition, schools often have staff with knowledge of critical health risk and protective behaviors and have pre-existing infrastructure that can support a varied set of healthful interventions. This makes schools well-positioned to help reduce adolescents' risk for HIV infection and other STD through sexual health education (SHE), access to sexual health services (SHS), and safe and supportive environments (SSE).

Since 1987, the Division of Adolescent and School Health (DASH) in the National Center for HIV/AIDS, Viral Hepatitis, STD, and TB Prevention of the Centers for Disease Control and Prevention (CDC), has worked to support for HIV prevention efforts in the nation's schools. CDC requests OMB approval to collect data over a three-year period from funded agencies under award PS18-1807: Promoting Adolescent Health through School-Based HIV Prevention. Funded agencies are local education agencies (LEAs), also known as school districts. The fundamental purposes of PS18-1807 are to build and strengthen the capacity of LEAs and their priority schools to effectively contribute to the reduction of HIV infection and other STD among adolescents; the reduction of disparities in HIV infection and other STD experienced by specific adolescent sub-population. Priority schools are middle and high schools within the funded LEAs in which youth are at risk for HIV infection and other STDs. This funding supports a multi-component, multilevel effort to support youth reaching adulthood in the healthiest possible way.

CDC will use a web-based system to collect data on the approaches that LEAs are using to meet their goals. Approaches include helping LEAs and priority schools deliver sexual health education emphasizing HIV and other STD prevention; increasing adolescent access to key sexual health services; and establishing safe and supportive environments for students and staff. To track LEA progress and evaluate the effectiveness of program activities, CDC will be collecting data using a mix of process and outcome measures. Process measures to be completed by all LEAs will assess the extent to which planned program activities have been implemented and lead to feasible and sustainable programmatic outcomes. Process measures include items on school health policy and practice assessment and training and technical assistance received from non-governmental partner organizations. Outcome measures, which will be completed by local education agencies, assess whether funded activities at each site are leading to intended outcomes including public health impact of systemic change in schools. These measures drove the development of questionnaires that have been tailored to each of the LEAs' strategies (i.e., SHE, SHS, SSE).

Respondents are 25 LEAs that have been funded under PS18-1807. Local education agencies will complete the questionnaires semi-annually using the Program Evaluation and Reporting System (PERS), an electronic web-based interface specifically designed for this data collection. Each LEA will receive a unique log-in to the system and technical assistance to ensure they can use the system easily. The dates when data are requested reflect the Office of Financial Resources (OFR) deadlines to provide timely feedback to LEAs and CDC staff for accountability and optimal use of funds. CDC anticipates that semi-annual information collection will begin in February 2020 and will describe activities conducted during the period August 2019-July 2022. The estimated burden per response is approximately 2-26 hours. This estimate includes time for local education agencies to gather information at the district and school-levels. Annualizing this collection over three years results in an estimated annualized burden of 1,750 hours per year and 5,250 for three years across all funded local education agencies.

LEAs are required to allocate at least 6% of their NOFO award on evaluation ranging from $15,000 to $21,000. Grantees may use these discretionary funds for collection of process and outcome measures, including time to gather and enter data into the online and evaluation reporting system. There is no cost to the respondents other than their time. The total annual burden hours are 1,750.

Estimated Annualized Burden Hours
Type of respondents | Form name | Number of respondents | Number of responses per respondent | Average burden per response (in hours)
LEA | Funded District Questionnaire | 25 | 2 | 2
| Priority School Questionnaire | 25 | 2 | 26
| District Assistance Questionnaire | 25 | 2 | 7

Jeffrey M. Zirger,
Lead, Information Collection Review Office, Office of Scientific Integrity, Office of Science, Centers for Disease Control and Prevention.

[FR Doc. 2019-19631 Filed 9-10-19; 8:45 am]

BILLING CODE 4163-18-P